NATIONAL LABOR RELATIONS BOARD

Notice of Appointments of Individuals To Serve as Members of Performance Review Boards

AGENCY: National Labor Relations Board.

ACTION: Notice; appointment to serve as members of performance review boards.

SUMMARY: The National Labor Relations Board is issuing this notice that the individuals whose names and position titles appear below have been appointed to serve as members of performance review boards in the National Labor Relations Board for the rating year beginning October 1, 2018 and ending September 30, 2019.

FOR FURTHER INFORMATION CONTACT: Roxanne L. Rothschild, Executive Secretary, National Labor Relations Board, 1015 Half Street SE, Washington, DC 20570, (202) 273-1940 (this is not a toll-free number), 1-866-315-6572 (TTY/TDD).

SUPPLEMENTARY INFORMATION:

Name and Title

Christine B. Lucy—Executive Assistant to the Chairman (Chief of Staff), Office of the Chairman

Fred B. Jacob—Solicitor, Office of the Solicitor

Roxanne L. Rothschild—Executive Secretary, Office of the Executive Secretary

Lara Zick—(Alternate)—Deputy Chief Counsel to Member Emanuel

Alice B. Stock—Deputy General Counsel, Office of the General Counsel

Elizabeth Tursell—Associate to the General Counsel, Division of Operations Management

Richard Bock—(Alternate)—Associate General Counsel, Division of Advice

Authority: 5 U.S.C. 4314(c)(4).

By Direction of the Board.
Roxanne L. Rothschild,
Executive Secretary.

[FR Doc. 2019-23438 Filed 10-25-19; 8:45 am]

BILLING CODE 7545-01-P